GENERAL SERVICES ADMINISTRATION

Federal Travel Regulation (FTR); Fly America Act—United States and European Union Open Skies Agreement (US-EU Open Skies Agreement)

AGENCY: Office of Governmentwide Policy (MTT), General Services Administration (GSA).

ACTION: Notice.

SUMMARY: This notice provides preliminary information to Federal agencies on the US-EU Open Skies Agreement.

DATES: The US-EU Open Skies Agreement dated April 30, 2007 will be effective for the transportation of passengers on March 30, 2008.

FOR FURTHER INFORMATION CONTACT: Ms. Umeki Gray Thorne, phone: (202) 208-7636; e-mail at Umeki.thorne@gsa.gov, or Jim Harte, phone: (202) 501-0483 or e-mail at Jim.Harte@gsa.gov, Office of Governmentwide Policy (MTT), General Services Administration, 1800 F Street, NW., Washington, DC 20405.

SUPPLEMENTARY INFORMATION: On April 30, 2007, the United States—European Union Air Transport Agreement was signed, providing community airlines (airlines of the European Community and its Member States) the right to transport passengers and cargo on U.S. Government procured transportation for both scheduled and charter flights, subject to certain conditions. Specifically, community airlines may transport passengers and cargo on scheduled and charter flights for which a U.S. Government civilian department, agency, or instrumentality:

(1) Obtains the transportation for itself or in carrying out an arrangement under which payment is made by the U.S. Government or payment is made from amounts provided for the use of the U.S. Government, or

(2) Provides the transportation to or for a foreign country or international or other organization without reimbursement, and the transportation is:

(a) between any point in the United States and any point in a Member State, except—with respect to passengers only—between points for which there is a city-pair contract fare in effect, or

(b) between any two points outside the United States.

This provision described above does not apply to transportation funded by the Secretary of Defense or the Secretary of a military department.

The Federal Travel Regulation (FTR), section 301-10.135 (b) (41 CFR 301-10.135(b)) includes an exception to the use of U.S. flag air carrier service when the transportation is provided under a bilateral or multilateral air transportation agreement to which the U.S. Government and the government of a foreign country are parties, and which the Department of Transportation has determined meets the requirements of the Fly America Act. As the U.S.-EU Open Skies agreement is such an air transportation agreement, the General Services Administration (GSA) intends to issue regulations addressing the content of the provision on U.S. Government procured transportation included in the agreement to ensure that all are aware of the change made by the agreement. Regulations addressing air passenger transportation will be included in the FTR.

GSA is in the process of drafting a proposed rule with request for comments on proposed revisions to the FTR that will be published in the Federal Register.

Dated: July 17, 2007.
Becky Rhodes,
Deputy Associate Administrator.

[FR Doc. E7-14900 Filed 7-31-07; 8:45 am]

BILLING CODE 6820-14-P